DEPARTMENT OF LABOR

Employment and Training Administration

[TW-W-38,409, TA-W-38,409A]

Money's Foods U.S., Inc., Money's Mushrooms Ltd, Blandon, PA and Money's Foods U.S., Inc. Money's Mushrooms Ltd., Jackson OH; Amended Certification Regarding Eligibility To Apply for Worker Adjustment Assistance

In accordance with section 223 of the Trade Act of 1974 (19 U.S.C. 2273) the Department Labor issued a Certification of Eligibility to Apply for Worker Adjustment Assistance on January 30, 2001, applicable to workers of Money's Foods U.S., Inc., Money's Mushrooms LTD, Blandon, Pennsylvania. The notice was published in the Federal Register on February 20, 2001 (65 FR 10916).

At the request of the petitioners, the Department reviewed the certification for workers of the subject firm. New information shows that worker separations occurred at the Jackson, Ohio facility of Money's Foods U.S., Inc., Money's Mushrooms LTD when it closed in December, 2000. The workers were engaged in employment related to the production of mushrooms.

Accordingly, the Department is amending the certification to cover workers of the Jackson, Ohio location of Money's Foods U.S., Inc., Money Mushrooms Ltd.

The intent of the Department's certification is to include all workers of Money's Foods U.S., Inc., Money's Mushrooms Ltd adversely affected by increased imports of mushrooms.

The amended notice applicable to TA-W-38,409 is hereby issued as follows:

All workers of Money's Foods U.S., Inc., Money's Mushrooms Ltd, Blandon, Pennsylvania (TA-W-38,409) and Jackson, Ohio (TA-W-38,409A) who became totally or partially separated from employment on or after December 1, 1999 through January 30, 2003 are eligible to apply for adjustment assistance under Section 223 of the Trade Act of 1974.

Signed at Washington D.C. this 2nd day of April 2001.
Linda G. Poole,
Certifying Officer, Division of Trade Adjustment Assistance.

[FR Doc. 01-9216 Filed 4-12-01; 8:45 am]

BILLING CODE 4510-30-M